ENVIRONMENTAL PROTECTION AGENCY

[FRL-8023-9]

Clean Water Act Section 303(d): Final Agency Action on 44 Total Maximum Daily Loads (TMDLs)

AGENCY: Environmental Protection Agency (EPA).

ACTION: Notice of availability.

SUMMARY: This notice announces the final agency action on 44 TMDLs prepared by EPA Region 6 for waters listed in the state of Arkansas, under section 303(d) of the Clean Water Act (CWA). These TMDLs were completed in response to the lawsuit styled Sierra Club, et al. v. Clifford, et al., No. LR-C-99-114. Documents from the administrative record files for the final 44 TMDLs, including TMDL calculations and responses to comments, may be viewed at http://www.epa.gov/earth1r6/6wq/artmdl.htm.

ADDRESSES: The administrative record files for these 44 TMDLs may be obtained by writing or calling Ms. Diane Smith, Environmental Protection Specialist, Water Quality Protection Division, U.S. Environmental Protection Agency Region 6, 1445 Ross Ave., Dallas, TX 75202-2733. Please contact Ms. Smith to schedule an inspection.

FOR FURTHER INFORMATION CONTACT: Diane Smith at (214) 665-2145.

SUPPLEMENTARY INFORMATION: In 1999, five Arkansas environmental groups, the Sierra Club, Federation of Fly Fishers, Crooked Creek Coalition, Arkansas Fly Fishers, and Save our Streams (plaintiffs), filed a lawsuit in Federal Court against the EPA, styled Sierra Club, et al. v. Clifford, et al., No. LR-C-99-114. Among other claims, plaintiffs alleged that EPA failed to establish Arkansas TMDLs in a timely manner.

EPA Takes Final Agency Action on 44 TMDLs

By this notice EPA is taking final agency action on the following 44 TMDLs for waters located within the state of Arkansas:

Segment-Reach | Waterbody name | Pollutant
08020401-003 | Wabbaseka Bayou | Siltation/turbidity.
11110205-011 | Cadron Creek | Siltation/turbidity..
11110205-012 | Cadron Creek | Siltation/turbidity.
11110203-927 | White Oak Creek | Siltation/turbidity.
08020302-004 | Bayou Deview | Siltation/turbidity.
08020302-005 | Bayou Deview | Siltation/turbidity.
08020302-006 | Bayou Deview | Siltation/turbidity.
08020302-007 | Bayou Deview | Siltation/turbidity.
08020302-009 | Bayou Deview | Siltation/turbidity.
08020302-016 | Cache River | Siltation/turbidity.
08020302-017 | Cache River | Siltation/turbidity.
08020302-018 | Cache River | Siltation/turbidity.
08020302-019 | Cache River | Siltation/turbidity.
08020302-020 | Cache River | Siltation/turbidity.
08020302-021 | Cache River | Siltation/turbidity.
08020302-027 | Cache River | Siltation/turbidity.
08020302-028 | Cache River | Siltation/turbidity.
08020302-029 | Cache River | Siltation/turbidity.
08020302-031 | Cache River | Siltation/turbidity.
08020302-032 | Cache River | Siltation/turbidity.
11010013-006 | Village Creek | Siltation/turbidity.
11010013-007 | Village Creek | Siltation/turbidity.
11010013-008 | Village Creek | Siltation/turbidity.
11010013-012 | Village Creek | Siltation/turbidity.
11010013-014 | Village Creek | Siltation/turbidity.
11010014-009 | Ten Mile Creek | Siltation/turbidity.
11010012-004 | Strawberry River | Siltation/turbidity.
11010012-005 | Strawberry River | Siltation/turbidity.
11010012-006 | Strawberry River | Siltation/turbidity.
110100 12-008 | Strawberry River | Siltation/turbidity.
11010012-009 | Strawberry River | Siltation/turbidity.
11010012-010 | Little Strawberry River | Siltation/turbidity.
11010012-011 | Strawberry River | Siltation/turbidity.
11010001-023 | West Fork White River | Siltation/turbidity.
11010001-024 | White River | Siltation/turbidity.
08020203-012 | Tyronza River | Siltation/turbidity.
11110105-001 | Poteau River near Fort Smith | Siltation/turbidity.
11110105-031L | Poteau River near Waldron | Total phosphorus, Copper, and Zinc.
11140302-003 | Days Creek | Nitrate.
11140109-919 | Rolling Fork | Total phosphorus, and Nitrate.
11010001-045L | Osage Creek near Berryville | Total phosphorus.

EPA requested the public to provide EPA with any significant data or information that might impact the 44 TMDLs at Federal Register Notices: Volume 70, Number 217, pages 68448-68449 (November 10, 2005) and Volume 70, Number 46, page 11971 (March 10, 2005). The comments received and EPA's response to comments may be found at http://www.epa.gov/earth1r6/6wq/artmdl.htm.

Dated: January 10, 2006.
Miguel I. Flores,
Director, Water Quality Protection Division, Region 6.

[FR Doc. E6-813 Filed 1-23-06; 8:45 am]

BILLING CODE 6560-50-P